DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than December 12, 2016.

Interested persons are invited to submit written comments regarding the subject matter of the investigations to the Director, Office of Trade Adjustment Assistance, at the address shown below, not later than December 12, 2016.

The petitions filed in this case are available for inspection at the Office of the Director, Office of Trade Adjustment Assistance, Employment and Training Administration, U.S. Department of Labor, Room N-5428, 200 Constitution Avenue NW., Washington, DC 20210.

Signed at Washington, DC, this 18th day of November 2016.
Hope D. Kinglock,
Certifying Officer, Office of Trade Adjustment Assistance.

Appendix
[53 TAA petitions instituted between 8/22/16 and 9/2/16]
TA-W | Subject firm (petitioners) | Location | Date of institution | Date of petition
92125 | Soo Line Railroad Company d/b/a Canadian Pacific (State/One-Stop) | Minneapolis, MN | 08/22/16 | 08/19/16
92126 | IBM (State/One-Stop) | Boulder, CO | 08/22/16 | 08/19/16
92127 | Bank of America (State/One-Stop) | Portland, OR | 08/22/16 | 08/19/16
92128 | FT Eng., Inc. (Union) | Escondido, CA | 08/22/16 | 08/19/16
92129 | MAPE USA Inc. (State/One-Stop) | Cambridge, MN | 08/23/16 | 08/22/16
92130 | Bloomington Production Operations, LLC (Union) | Bloomington, IN | 08/23/16 | 08/22/16
92131 | Compressor Controls Corporation (Company) | Urbandale, IA | 08/23/16 | 08/22/16
92132 | Carrier Corporation (Company) | Indianapolis, IN | 08/23/16 | 08/18/16
92133 | Lego Systems, Inc. (Company) | Enfield, CT | 08/24/16 | 08/04/16
92134 | Pacific Crest Transformers, Inc. (State/One-Stop) | White City, OR | 08/24/16 | 08/23/16
92135 | International Business Machines Corporation (IBM) (State/One-Stop) | Boulder, CO | 08/24/16 | 08/23/16
92136 | International Business Machines Corporation (IBM) (State/One-Stop) | Boulder, CO | 08/24/16 | 08/23/16
92137 | Weyerhaeuser NR Company (State/One-Stop) | Columbia Falls, MT | 08/24/16 | 08/23/16
92138 | Hewlett Packard, Inc. (State/One-Stop) | Palo Alto, CA | 08/25/16 | 08/24/16
92139 | John Deere Seeding Group Moline (Union) | Moline, IL | 08/25/16 | 07/21/16
92140 | Bryant Rubber Corp. (State/One-Stop) | Harbor City, CA | 08/25/16 | 08/24/16
92141 | TE Connectivity (Company) | Rock Hill, SC | 08/26/16 | 08/25/16
92142 | Erickson Inc. (State/One-Stop) | Portland, OR | 08/26/16 | 08/25/16
92143 | BNY Mellon Investment Servicing US Inc. (Workers) | Westborough, MA | 08/26/16 | 08/25/16
92144 | Mitsui & Co. Precious Metals, Inc. (Workers) | New York, NY | 08/26/16 | 07/26/16
92145 | Medical Billing Specialist Limited (Workers) | Port Orange, IL | 08/26/16 | 08/25/16
92146 | Commercial Vehicle Group, Inc. (Company) | Monona, IA | 08/26/16 | 08/23/16
92147 | Daimler Components and Logistics (Union) | Gastonia, NC | 08/26/16 | 08/18/16
92148 | Fox Factory, Inc. (State/One-Stop) | Watsonville, CA | 08/26/16 | 08/11/16
92149 | Hertz Corporation (State/One-Stop) | Oklahoma City, OK | 08/29/16 | 08/26/16
92150 | Fibrant, LLC (Company) | Augusta, GA | 08/29/16 | 08/26/16
92151 | TaylorMade Golf Company, Inc. (State/One-Stop) | Carlsbad, CA | 08/29/16 | 08/26/16
92152 | Dura Automotive Systems (Company) | Stockton, IL | 08/29/16 | 08/29/16
92153 | Duro Textiles, LLC (Union) | Fall River, MA | 08/30/16 | 08/29/16
92154 | Benu Networks, Inc. (State/One-Stop) | Billerica, MA | 08/30/16 | 08/29/16
92155 | Hewlett Packard Enterprise (State/One-Stop) | Plano, TX | 08/30/16 | 08/29/16
92156 | Saran Industries (Workers) | Shelbyville, IN | 08/30/16 | 08/30/16
92157 | Columbia Industries (State/One-Stop) | Hillsboro, OR | 08/31/16 | 08/30/16
92158 | IMMUNIO USA, Inc. (State/One-Stop) | Portland, OR | 08/31/16 | 08/30/16
92159 | Huntington Alloys Corporation/Special Metals Division (State/One-Stop) | Catlettsburg, KY | 08/31/16 | 08/30/16
92160 | Insight Optical Manufacturing Company of Florida Inc. (Company) | Hialeah, FL | 08/31/16 | 08/25/16
92161 | Maxim Integrated Products, Inc. (State/One-Stop) | San Jose, CA | 08/31/16 | 08/30/16
92162 | Suncoke Energy, Inc. (Workers) | Lisle, IL | 08/31/16 | 08/30/16
92163 | Acosta Sales & Marketing (State/One-Stop) | Marlborough, MA | 09/01/16 | 08/29/16
92164 | Triad Mining, LLC (Workers) | Oakland City, IN | 09/01/16 | 08/31/16
92165 | Lufkin Industries LLC (Workers) | Cullman, AL | 09/01/16 | 08/31/16
92166 | John William Siegel (State/One-Stop) | Atascadero, CA | 09/01/16 | 08/31/16
92167 | Valmark Interface Solutions (State/One-Stop) | Livermore, CA | 09/01/16 | 08/31/16
92168 | ALW-Architectural Lighting Works (State/One-Stop) | Hayward, CA | 09/01/16 | 08/31/16
92169 | International Business Machines Corporation (IBM) (Workers) | Austin, TX | 09/01/16 | 08/31/16
92169B | International Business Machines Corporation (IBM) (Workers) | Coppell, TX | 09/01/16 | 08/31/16
92169A | International Business Machines Corporation (IBM) (Workers) | Austin, TX | 09/01/16 | 08/31/16
92170 | QBE Americas, Inc. (State/One-Stop) | Overland Park, KS | 09/01/16 | 08/31/16
92171 | Health Care Service Corporation (Workers) | Chicago, IL | 09/01/16 | 08/31/16
92172 | John Deere Harvester Works (Union) | East Moline, IL | 09/01/16 | 08/31/16
92173 | Environments, Inc. (Workers) | Beaufort, SC | 09/01/16 | 08/23/16
92174 | Caterpillar Forest Products Prentice (Workers) | Prentice, WI | 09/02/16 | 08/23/16
92175 | Dow Business Services, LLC (State/One-Stop) | Midland, MI | 09/02/16 | 09/01/16

[FR Doc. 2016-28913 Filed 12-1-16; 8:45 am]

BILLING CODE 4510-FN-P